DEPARTMENT OF ENERGY

Federal Energy Regulatory Commission

[Docket No. RP96-312-120]

Tennessee Gas Pipeline Company; Notice of Negotiated Rates

April 7, 2003.

Take notice that on March 31, 2003, Tennessee Gas Pipeline Company (Tennessee), tendered for filing: (1) A Gas Transportation Agreement between Tennessee and BP Energy Company (BP), dated January 1, 2003; (2) a Firm Transportation Negotiated Rate Letter Agreement between Tennessee and BP, dated January 8, 2003; (3) a Gas Transportation Agreement between Tennessee and Consolidated Edison Energy, Inc. (CON ED), dated September 5, 2002; and (4) a Firm Transportation Negotiated Rate Letter Agreement between Tennessee and CON ED, dated February 11, 2003. The filed agreements represent negotiated rate arrangements between Tennessee and BP, and Tennessee and CON ED, for which Tennessee is requesting Commission approval, effective May 1, 2003. In addition, Tennessee states that the negotiated rate arrangements are being filed in compliance the Commission's “Order Issuing the Certificates and Approving Abandonments” issued on June 28, 2002, in Docket Nos. CP02-46 and CP02-47. Dominion Transmission, Inc., et al., 99 FERC • 61,367 (2002).

Any person desiring to be heard or to protest said filing should file a motion to intervene or a protest with the Federal Energy Regulatory Commission, 888 First Street, NE., Washington, DC 20426, in accordance with sections 385.314 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: April 14, 2003.

Magalie R. Salas,
Secretary.

[FR Doc. 03-9101 Filed 4-11-03; 8:45 am]

BILLING CODE 6717-01-P